NATIONAL CREDIT UNION ADMINISTRATION

Sunshine Act; Notice of Meeting

Time and Date: 10 a.m., Thursday, June 21, 2007.

Place: Board Room, 7th Floor, Room 7047, 1775 Duke Street, Alexandria, VA 22314-3428.

Status: Open.

Matters to Be Considered: 1. Proposed Rule: Section 701.23 of NCUA's Rules and Regulations, Purchase, Sale, and Pledge of Eligible Obligations.

2. Prompt Corrective Action Reform Proposal.

FOR FURTHER INFORMATION CONTACT: Mary Rupp, Secretary of the Board, Telephone: 703-518-6304.

Hattie Ulan,
Acting Board Secretary,

[FR Doc. 07-3027 Filed 6-14-07; 3:51 pm]

BILLING CODE 7535-01-M